DEPARTMENT OF ENERGY

Federal Energy Regulatory Commission

Combined Notice of Filings #1

Take notice that the Commission received the following electric corporate filings:

Docket Numbers: EC14-77-000.

Applicants: ESI Ebensburg, Inc., Ebensburg Power Company, Ebensburg Energy, LLC.

Description: Application of ESI Ebensburg, Inc., et al. for Approval under Section 203 of the Federal Power Act and Request for a Shortened Comment Period and Expedited Consideration.

Filed Date: 4/17/14.

Accession Number: 20140417-5270.

Comments Due: 5 p.m. ET 5/8/14.

Take notice that the Commission received the following electric rate filings:

Docket Numbers: ER14-1737-000.

Applicants: Southwest Power Pool, Inc.

Description: Notice of Cancellation of Generator Interconnection Agreement of Southwest Power Pool, Inc.

Filed Date: 4/17/14.

Accession Number: 20140417-5234.

Comments Due: 5 p.m. ET 5/8/14.

Docket Numbers: ER14-1738-000.

Applicants: Trademark Merchant Energy, LLC.

Description: Trademark Merchant Energy, LLC submits tariff filing per 35.15: Notice of Cancellation of MBR to be effective 4/19/2014.

Filed Date: 4/18/14.

Accession Number: 20140418-5052.

Comments Due: 5 p.m. ET 5/9/14.

Docket Numbers: ER14-1739-000.

Applicants: PJM Interconnection, L.L.C.

Description: PJM Interconnection, L.L.C. submits tariff filing per 35.13(a)(2)(iii): Original Service Agreement No. 3785; Queue No. Y2-081 to be effective 3/18/2014.

Filed Date: 4/18/14.

Accession Number: 20140418-5116.

Comments Due: 5 p.m. ET 5/9/14.

Take notice that the Commission received the following open access transmission tariff filings:

Docket Numbers: OA08-100-007; OA07-53-010.

Applicants: Duke Energy Carolinas, LLC, Duke Energy Progress, Inc., Duke Energy Florida, Inc.

Description: Informational Filing of Operational Penalty Assessments and Distributions of Duke Energy Carolinas, LLC, et al., as Required by Order Nos. 890 and 890-A in OA08-100, et al.

Filed Date: 4/17/14.

Accession Number: 20140417-5249.

Comments Due: 5 p.m. ET 5/8/14.

Docket Numbers: OA08-96-008.

Applicants: Southern Company Services, Inc.

Description: Southern Company Services, Inc. submits Report of Penalty Assessments and Distribution in accordance with Orders Nos. 890 and 890-A and Compliance Report.

Filed Date: 4/18/14.

Accession Number: 20140418-5112.

Comments Due: 5 p.m. ET 5/9/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 18, 2014.
Nathaniel J. Davis, Sr.,
Deputy Secretary.

[FR Doc. 2014-09519 Filed 4-25-14; 8:45 am]

BILLING CODE 6717-01-P